DEPARTMENT OF TRANSPORTATION

Federal Aviation Administration

14 CFR Part 71

[Docket No. FAA-2005-21034; Airspace Docket No. 05-AEA-09]

Establishment of Class E-2 Airspace; Bar Harbor, ME

AGENCY: Federal Aviation Administration (FAA) DOT.

ACTION: Final rule.

SUMMARY: This action establishes Class E-2 airspace at Bar Harbor, ME. Controlled airspace extending upward from the surface is needed to contain aircraft operating under Instrument Flight Rule (IFR) operations into Hancock County-Bar Harbor Airport, Bar Harbor, ME.

EFFECTIVE DATES: 0901 UTC September 1, 2005.

FOR FURTHER INFORMATION CONTACT: Mr. Francis Jordan, Airspace Specialist, Eastern Terminal Service Unit, Airspace and Operations, ETUS-520, Eastern Region, Federal Aviation Administration, 1 Aviation Plaza, Jamaica, New York 11434-4809, telephone: (718) 553-4521.

SUPPLEMENTARY INFORMATION:

History

On May 5, 2005, a notice proposing to amend Part 71 of the Federal Aviation Regulations (14 CFR Part 71) by establishing Class E-2 airspace area at Bar Harbor, ME, was published in the Federal Register (70 FR 23810-23811). The proposed action would provide controlled airspace to accommodate Standard Instrument Approach Procedures (SIAP) to Hancock County-Bar Harbor Airport. Interested parties were invited to participate in this rulemaking proceeding by submitting written comments on the proposal to the FAA on or before June 6, 2005. No comments to the proposal were received. The rule is adopted as proposed.

The coordinates for this airspace docket are based on North American Datum 83. Class E airspace area designations for airspace extending upward from the surface of the earth are published in paragraph 6005 of FAA Order 7400.9M, dated August 30, 2004, and effective September 16, 2004, which is incorporated by reference in 14 CFR 71.1. The Class E airspace designation listed in this document will be published in the Order.

The Rule

This amendment to Part 71 of the Federal Aviation Regulations (14 CFR Part 71) provides controlled Class E airspace extending upward from the surface for aircraft conducting IFR operation into Hancock County-Bar Harbor Airport, Bar Harbor, ME.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—[AMENDED]

1. The authority citation for 14 CFR Part 71 continues to read as follows:

Authority: 49 U.S.C. 106(g), 40103, 40113, 40120; EO 10854, 24 FR 9565, 3 CFR, 1959-1963 Comp., p. 389.

§ 71.1 [Amended]

The incorporation by reference in 14 CFR 71.1 of Federal Aviation Administration Order 7400.9M, Airspace Designations and Reporting Points, dated August 30, 2004, and effective September 16, 2004, is amended as follows:

Paragraph 6002 Class E Airspace Areas designated as a surface area for an airport.

* * * * *

ANE ME E2 Bar Harbor, ME

Hancock Count-Bar Harbor Airport, ME

(Lat. 44°26′59″ N., long. 68°21′41″ W.)

Within a 4.2-mile radius of the Hancock County-Bar Harbor Airport and within 2.7 miles each side of a 204° bearing from the airport, extending from the 4.2-mile radius to 6.2 miles southwest of the airport and within 2.7 miles each side of a 024° bearing from the airport, extending from the 4.2-mile radius to 6.2 miles northeast of the airport. This Class E airspace area is effective during the specific dates and times established in advance by a Notice to Airmen. The effective date and time will thereafter be continuously published in the Airport/Facility Directory.

* * * * *

Issued in Jamaica, New York on June 14, 2005.
John G. McCartney,
Acting Area Director, Eastern Terminal Operations.

[FR Doc. 05-12145 Filed 6-20-05; 8:45 am]

BILLING CODE 4910-13-M